COMMITTEE FOR PURCHASE FROM PEOPLE WHO ARE BLIND OR SEVERELY DISABLED

Procurement List; Additions and Deletions

AGENCY: Committee for Purchase From People Who Are Blind or Severely Disabled.

ACTION: Additions to and deletions from Procurement List.

SUMMARY: This action adds to the Procurement List services to be furnished by nonprofit agencies employing persons who are blind or have other severe disabilities, and deletes from the Procurement List products previously furnished by such agencies.

DATES: Effective Date: November 26, 2006.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION:

Additions

On August 11 and September 1, 2006, the Committee for Purchase From People Who Are Blind or Severely Disabled published notice (71 FR 46189 and 52058) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Base Supply Center, U.S. Army Medical Research Acquisition Activity, 820 Chandler Street, Fort Detrick, Maryland.

NPA: Industries for the Blind, Inc., West Allis, Wisconsin.

Contracting Activity: Army Contracting Agency, Ft. Detrick, Maryland.

Service Type/Location: Custodial Services, Cereal Crops Research Unit, USDA Agricultural Research Service, 502 Walnut Street, Madison, Wisconsin.

NPA: Madison Area Rehabilitation Centers, Inc., Madison, Wisconsin.

Contracting Activity: USDA, Agriculture Research Service, Peoria, Illinois.

Service Type/Location: Custodial Services, Veterans Center, 1642 42nd Street NE, Cedar Rapids, Iowa.

NPA: Goodwill Industries of Southeast Iowa, Iowa City, Iowa.

Contracting Activity: VA Medical Center, Iowa City, Iowa.

Service Type/Location: Custodial/Grounds Maintenance/Refuse Removal/Snow Removal/Naval Operations Support Center, 800 Dan Street, Akron, Ohio, 3190 Gilbert Avenue, Cincinnati, Ohio, 1089 E. Ninth Street, Cleveland, Ohio, 7221 Second Street, Columbus, Ohio, 28828 Glenwood Road, Perrysburg, Ohio.

NPA: VGS, Inc., Cleveland, Ohio.

Contracting Activity: Naval Facilities Engineering Field Activity Midwest, Great Lakes, Illinois.

Service Type/Location: Shadow Boarding, Anniston Army Depot, 7 Frankford Avenue, Bldg 221, Anniston, Alabama.

NPA: Calhoun-Cleburne Mental Health Board, Inc., Anniston, Alabama.

Contracting Activity: Anniston Army Depot, Anniston, Alabama.

Deletions

On June 30, 2006, the Committee for Purchase From People Who Are Blind or Severely Disabled published notice (70 FR 37537) of proposed deletions to the Procurement List.

After consideration of the relevant matter presented, the Committee has determined that the products listed below are no longer suitable for procurement by the Federal Government under 1 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Apron, Food Handler's

NSN: 8415-00-255-8577.

NPA: Arizona Industries for the Blind, Phoenix, Arizona.

NPA: Alabama Industries for the Blind, Talladega, Alabama.

Contracting Activity: GSA, Southwest Supply Center, Fort Worth, Texas.

Binder, Note Pad

NSN: 7510-00-NIB-0196.

NSN: 7510-00-NIB-0197.

NPAs: New York City Industries for the Blind, Inc., Brooklyn, New York. ForSight Vision, York, Pennsylvania.

Contracting Activity: Office Supplies & Paper Products Acquisition Center, New York, New York.

File, Combination Desk

NSN: 7520-01-452-1565—File, Horizontal Desk.

NPA: Occupational Development Center, Inc., Thief River Falls, Minnesota.

Contracting Activity: Office Supplies & Paper Products Acquisition Center, New York, New York.

Folder, File, Military Personnel Records Jacket

NSN: 7530-DA Form 201.

NPA: L.C. Industries for the Blind, Inc., Durham, North Carolina.

Contracting Activity: TAGCEN, Washington, Department of the Army, Washington, DC.

Igniter Assembly, Empty

NSN: 1330-01-M00-0103.

NPA: None Authorized.

Contracting Activity: Pine Bluff Arsenal, Pine Bluff, Arkansas.

Inking Pad

NSN: 7510-01-431-6516.

NPA: Cattaraugus County Chapter, NYSARC, Olean, New York.

Contracting Activity: Office Supplies & Paper Products Acquisition Center, New York, New York.

Matt Rehab, Grade C Reg Bed

NSN: 7699 27 X 73 C.

NSN: 7699 38 X 75 C.

NSN: 7699 33 X 75 C.

NSN: 7699 26 X 76 C.

NSN: 7699 30 X 76 C.

NSN: 7699 34 X 76 C.

NSN: 7699 31 X 78 C.

NSN: 7699 36 X 78 C.

NSN: 7699 26X72-1/2C.

NPAs: Georgia Industries for the Blind, Bainbridge, Georgia.

NPAs: Mississippi Industries for the Blind, Jackson, Mississippi.

NPAs: Winston-Salem Industries for the Blind, Winston-Salem, North Carolina.

NPAs: Virginia Industries for the Blind, Charlottesville, Virginia.

NPAs: L.C. Industries for the Blind, Inc., Durham, North Carolina.

Contracting Activity: GSA, Southwest Supply Center, Fort Worth, Texas.

Mattress, Plastic Coated Innerspring

NSN: 7210-00-995-1093.

NSN: 7210-00-682-7146.

NPAs: Lions Volunteer Blind Industries, Inc., Morristown, Tennessee.

NPAs: Georgia Industries for the Blind, Bainbridge, Georgia.

NPAs: Mississippi Industries for the Blind, Jackson, Mississippi.

NPAs: Winston-Salem Industries for the Blind, Winston-Salem, North Carolina.

NPAs: Virginia Industries for the Blind, Charlottesville, Virginia.

Contracting Activity: Veterans Affairs National Acquisition Center, Hines, Illinois.

Plate, Marking, Blank

NSN: 9905-00-473-6336.

NPA: None Authorized.

Contracting Activity: GSA, Southwest Supply Center, Fort Worth, Texas.

Sponge, Surgical

NSN: 6510-00-988-3838.

NSN: 6510-00-559-3219.

NSN: 6510-00-119-9314.

NPA: None Authorized.

Contracting Activity: Department of Veterans Affairs, Washington, DC.

Trap, Animal

NSN: 3740-00-531-3905.

NPA: ACT CORP., Daytona Beach, Florida.

Contracting Activity: GSA, Southwest Supply Center, Fort Worth, Texas.

Sheryl D. Kennerly,
Director, Information Management.

[FR Doc. E6-18029 Filed 10-26-06; 8:45 am]

BILLING CODE 6353-01-P